DEPARTMENT OF COMMERCE

International Trade Administration

[C-570-984]

Drawn Stainless Steel Sinks From the People's Republic of China: Postponement of Preliminary Determination in the Countervailing Duty Investigation

AGENCY: Import Administration, International Trade Administration, Department of Commerce.

DATES: Effective Date: May 10, 2012.

FOR FURTHER INFORMATION CONTACT: Shane Subler or Hermes Pinilla, AD/CVD Operations, Import Administration, International Trade Administration, U.S. Department of Commerce, 14th Street and Constitution Avenue NW., Washington, DC 20230; telephone: (202) 482-0189 or (202) 482-3477, respectively.

Background

On March 21, 2012, the Department of Commerce (“the Department”) initiated an investigation of drawn stainless steel sink from the People's Republic of China (“PRC”). See Drawn Stainless Steel Sinks from the People's Republic of China: Initiation of Countervailing Duty Investigation, 77 FR 18211 (March 27, 2012). Currently, the preliminary determination is due no later than May 25, 2012.

Postponement of Due Date for Preliminary Determination

Section 703(b)(1) of the Tariff Act of 1930, as amended (the Act), requires the Department to issue the preliminary determination in a countervailing duty investigation within 65 days after the date on which the Department initiated the investigation. However, if the Department concludes that the parties concerned in the investigation are cooperating and determines that the investigation is extraordinarily complicated, section 703(c)(1)(B) of the Act allows the Department to postpone making the preliminary determination until no later than 130 days after the date on which the administering authority initiates an investigation. The Department finds that the instant case is extraordinarily complicated because of the number and complexity of the alleged countervailable subsidy practices, and the need to determine the extent to which particular countervailable subsidies are used by individual manufacturers, producers, and exporters. In addition, the Department finds that the parties thus far identified in the investigation are cooperating. Therefore, the Department is extending the due date for the preliminary determination by 130 days after the day on which the investigation was initiated (i.e., until July 29, 2012). However, July 29, 2012, falls on a Sunday. It is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary determination is no later than July 30, 2012.

As the Department is aware, Section 703(c)(2) of the Act and 19 CFR 351.205(f) state that if the Department postpones the preliminary determination, it will notify all parties to the proceeding no later than 20 days prior to the scheduled date of the preliminary determination. The Department acknowledges that it inadvertently missed this deadline. The Department received numerous comments regarding the respondent selection, which delayed the issuance of questionnaires, and intended to extend the deadline to issue the preliminary determination, but due to the administrative oversight we did not complete an extension notice on time.

This notice is issued and published pursuant to section 703(c)(2) of the Act and 19 CFR 351.205(f).

Dated: May 4, 2012.
Christian Marsh,
Deputy Assistant Secretary for Import Administration.

[FR Doc. 2012-11341 Filed 5-9-12; 8:45 am]

BILLING CODE 3510-DS-P